DEPARTMENT OF HEALTH AND HUMAN SERVICES

National Institutes of Health

National Institute of Dental & Craniofacial Research; Amended Notice of Meeting

Notice is hereby given of a change in the meeting of the National Institute of Dental and Craniofacial Research Special Emphasis Panel, October 7, 2013, 10:00 a.m. to October 7, 2013, 4:00 p.m., National Institutes of Health, 6701 Democracy Blvd., 602, Bethesda, MD 20852 which was published in the Federal Register on September 16, 2013, 78 FR 56902.

Meeting date has changed from October 7, 2013 to November 12, 2013. The meeting is closed to the public.

Dated: October 25, 2013.
David Clary,
Program Analyst, Office of Federal Advisory Committee Policy.

[FR Doc. 2013-25905 Filed 10-30-13; 8:45 am]

BILLING CODE 4140-01-P